DEPARTMENT OF HOMELAND SECURITY

Coast Guard

33 CFR Part 165

[Docket No. USCG-2017-0769]

Security Zone; Protection of Military Cargo, Captain of the Port Zone Puget Sound, WA

AGENCY: Coast Guard, DHS.

ACTION: Notice of enforcement of regulation.

SUMMARY: The Coast Guard will enforce the Sitcum Waterway Security Zone, Commencement Bay, Washington, from Noon on August 12, 2017, through 11:59 p.m. on August 19, 2017, unless cancelled sooner by the Captain of the Port. This action is necessary for the security of Department of Defense assets and military cargo in the navigable waters of Puget Sound and adjacent waters. Entry into this security zone is prohibited unless authorized by the Captain of the Port or their Designated Representative, or is otherwise provided by exemption or waiver provisions in these security zone regulations.

DATES: The regulations in 33 CFR 165.1321 will be enforced from noon on August 12, 2017, through 11:59 p.m. on August 19, 2017, unless cancelled sooner by the Captain of the Port.

FOR FURTHER INFORMATION CONTACT: If you have questions on this notice of enforcement, call or email Lieutenant Junior Grade Ellie Wu, Sector Puget Sound Waterways Management Division, U.S. Coast Guard; telephone 206-217-6051, email SectorPugetSoundWWM@uscg.mil.

SUPPLEMENTARY INFORMATION: The Coast Guard will enforce regulations in 33 CFR 165.1321 for the Sitcum Waterway Security Zone identified in paragraph (c)(2) of that section, from August 12, 2017, at Noon through 11:59 p.m. on August 19, 2017, unless cancelled sooner by the Captain of the Port. The security zone is necessary to help provide for the security of Department of Defense assets and military cargo located in those waters during the enforcement period. Entry into the security zone is prohibited unless authorized under 33 CFR 165.1321. Vessels wishing to enter the security zone may request permission from the Captain of the Port or a Designated Representative as outlined in § 165.1321.

This notice of enforcement is issued under authority of 33 CFR 165.1321 and 5 U.S.C. 552(a). In addition to this notice of enforcement in the Federal Register, the Coast Guard plans to provide notification of this enforcement period via marine information broadcasts and on-scene assets.

If the Captain of the Port determines that the regulated area need not be enforced for the full duration stated in this notice of enforcement, a Broadcast Notice to Mariners may be used to grant general permission to enter the regulated area.

Dated: August 8, 2017.
Linda A. Sturgis,
Captain, U.S. Coast Guard, Captain of the Port, Puget Sound.

[FR Doc. 2017-17190 Filed 8-14-17; 8:45 am]

BILLING CODE 9110-04-P